ENVIRONMENTAL PROTECTION AGENCY

[FRL-7413-3]

Napa State Hospital—Administrative Consent Agreement and Final Order; Notice of Proposed Administrative Consent Agreement and Final Order Pursuant to Section 311(b)(6) of the Clean Water Act

AGENCY: Environmental Protection Agency, Region IX.

ACTION: Notice, request for public comments.

SUMMARY: In accordance with section 311(b)(6)(C) of the Clean Water Act, (“CWA”), 33 U.S.C. 1321(b)(6)(C), notice is hereby given of a proposed Consent Agreement and Final Order (“CA/FO,” Region 9 Docket No. OPA 9-2003-0001), which resolves penalties for alleged violations of sections 311(b)(3) and 311(j) of the CWA. The respondent to the CA/FO is the Napa State Hospital, an agency of the State of California. Through the proposed CA/FO, the Napa State Hospital will pay $40,000 to the Oil Spill Liability Trust Fund as a penalty for alleged violations involving the discharge of oil into waters of the United States, and the failure to prepare and maintain a spill prevention, control and countermeasure plan. The penalty included in this CA/FO was calculated in accordance with the Agency's guidance document, Civil Penalty Policy for section 311(b)(3) and section 311(j) of the Clean Water Act, dated August 1998. For 30 days following the date of publication of this notice, the Agency will receive written comments relating to the proposed CA/FO. Any person who comments on the proposed CA/FO shall be given notice of any hearing held and a reasonable opportunity to be heard and to present evidence. If no hearing is held regarding comments received, any person commenting on this proposed CA/FO may, within 30 days after the issuance of the final order, petition the Agency to set aside the CA/FO, as provided by section 311(b)(6)(C)(iii) of the CWA, 33 U.S.C. 1321(b)(6)(C)(iii).

DATES: Comments must be submitted on or before January 8, 2003.

ADDRESSES: The proposed CA/FO may be obtained from J. Andrew Helmlinger, telephone (415) 972-3904. Comments regarding the proposed CA/FO should be addressed to Danielle Carr (ORC-3) at 75 Hawthorne Street, San Francisco, California 94105, and should reference the Napa State Hospital and Region IX docket OPA 9-2003-0001.

FOR FURTHER INFORMATION CONTACT: J. Andrew Helmlinger, Office of Regional Counsel, (415) 972-3904, U.S. Environmental Protection Agency, Region 9, 75 Hawthorne Street, San Francisco, CA 94105.

Dated: November 14, 2002.
Debbie Jordan,
Acting Director, Superfund Division.

[FR Doc. 02-30121 Filed 12-6-02; 8:45 am]

BILLING CODE 6560-50-P